DEPARTMENT OF TRANSPORTATION

Surface Transportation Board

[STB Finance Docket No. 35052]

Union Pacific Railroad Company—Temporary Trackage Rights Exemption—The Kansas City Southern Railway Company

The Kansas City Southern Railway Company (KCS) has agreed to grant temporary overhead trackage rights to Union Pacific Railroad Company (UP) over KCS's line between milepost 482.0 on KCS's Mexico Subdivision at Kansas City, MO, and milepost 252.1 on KCS's East St. Louis Terminal Subdivision at Godfrey, IL, a distance of approximately 285 miles.

The transaction is scheduled to be consummated on July 15, 2007, the effective date of this exemption (30 days after the exemption was filed). The temporary trackage rights will expire on or about December 31, 2007. The purpose of the temporary trackage rights is to facilitate the performance of maintenance work on UP lines.

As a condition to this exemption, any employee affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction. Any stay petition must be filed on or before July 6, 2007 (at least 7 days before the exemption becomes effective).

An original and 10 copies of all pleadings, referring to STB Finance Docket No. 35052, must be filed with the Surface Transportation Board, 395 E Street, SW., Washington, DC 20423-0001. In addition, a copy of each pleading must be served on Gabriel S. Meyer, Union Pacific Railroad Company, 1400 Douglas Street, STOP 1580, Omaha, NE 68179.

Board decisions and notices are available on our Web site at http://www.stb.dot.gov.

Decided: June 25, 2007.
By the Board, David M. Konschnik, Director, Office of Proceedings.
Vernon A. Williams,
Secretary.

[FR Doc. E7-12631 Filed 6-28-07; 8:45 am]

BILLING CODE 4915-01-P